SECURITIES AND EXCHANGE COMMISSION

[File No. 500-1]

Rovac Corp., RS Group of Companies, Inc., Rymer Foods, Inc. Stratus Services Group, Inc., Sun Cal Energy, Inc., Sun Motor International, Inc., Surebet Casinos, Inc., and Swiss Medica, Inc.; Order of Suspension of Trading

November 9, 2011

It appears to the Securities and Exchange Commission that there is a lack of current and accurate information concerning the securities of Rovac Corp. because it has not filed any periodic reports since the period ended July 31, 2001.

It appears to the Securities and Exchange Commission that there is a lack of current and accurate information concerning the securities of RS Group of Companies, Inc. because it has not filed any periodic reports since the period ended March 31, 2006.

It appears to the Securities and Exchange Commission that there is a lack of current and accurate information concerning the securities of Rymer Foods, Inc. because it has not filed any periodic reports since July 28, 2001.

It appears to the Securities and Exchange Commission that there is a lack of current and accurate information concerning the securities of Stratus Services Group, Inc. because it has not filed any periodic reports since the period ended June 30, 2008.

It appears to the Securities and Exchange Commission that there is a lack of current and accurate information concerning the securities of Sun Cal Energy, Inc. because it has not filed any periodic reports since the period ended March 31, 2009.

It appears to the Securities and Exchange Commission that there is a lack of current and accurate information concerning the securities of Sun Motor International, Inc. because it has not filed any periodic reports since the period ended June 30, 2007.

It appears to the Securities and Exchange Commission that there is a lack of current and accurate information concerning the securities of Surebet Casinos, Inc. because it has not filed any periodic reports since the period ended March 31, 2003.

It appears to the Securities and Exchange Commission that there is a lack of current and accurate information concerning the securities of Swiss Medica, Inc. because it has not filed any periodic reports since the period ended June 30, 2007.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on November 9, 2011, through 11:59 p.m. EST on November 22, 2011.

By the Commission.
Elizabeth M. Murphy,
Secretary.

[FR Doc. 2011-29414 Filed 11-9-11; 11:15 am]

BILLING CODE 8011-01-P